DEPARTMENT OF TRANSPORTATION

Federal Aviation Administration

14 CFR Parts 21, 61, 63, 91, 93, 121, 135, 142, 145, and 183

[Docket No. FAA-2011-0092; Amendment Nos. 21-93, 61-126, 63-38, 77-14, 91-320, 93-96, 121-352, 135-123, 142-6, 145-28, 183-14]

Removal of Expired Federal Aviation Administration Regulations and References

AGENCY: Federal Aviation Administration, DOT.

ACTION: Final rule; technical amendment.

SUMMARY: The Federal Aviation Administration (FAA) is making minor technical changes to its regulations by removing expired Special Federal Aviation Regulations (SFARs) and cross-references, as well as other expired or obsolete regulations. None of these changes are substantive in nature since the regulations in question have expired and are not currently in effect. This technical amendment is necessary to update our regulations. The rule will not impose any additional burden or restriction on persons or organizations affected by these regulations.

DATES: Effective February 16, 2011.

FOR FURTHER INFORMATION CONTACT: Jackie Smith, (202) 267-9682; Federal Aviation Administration, 800 Independence Avenue, SW., Washington, DC 20591; e-mail jackie.f.smith@faa.gov.

SUPPLEMENTARY INFORMATION:

Background

The FAA periodically issues temporary regulations in 14 CFR called Special Federal Aviation Regulations (SFARs). These SFARs are typically necessary for a finite period of time, and usually specify an expiration date within the regulatory text. Additionally, certain subparts have specified expiration dates within the regulatory text. Currently, 14 CFR contains several SFARs, subparts, and sections that have become unnecessary or have expiration dates that have passed. To maintain an accurate body of regulations, we are removing and/or amending SFAR Nos. 36, 80, 92-5, 93, 98, 101-1; Subparts J and M of part 21; Subpart B of part 93; §§ 91.146(b), 121.360, 135.153, 183.61(a)(1), 183.63, and corresponding references. The following tables are presented for the reader's convenience.

Table 1—Expired SFARs
Part(s) | SFARs removed | Expiration date
61, 63, 135, 142 | 93 | 11/30/2001.
77 | 98 | 01/20/2009.
121, 145 | 36 | 11/14/2009.
121 | 80 | 03/12/2001.
121 | 92-5 | 07/31/2003 and 10/01/2003.

Table 2—Expired Subparts and Sections
Parts | Subparts and sections amended/removed | Expiration date
21 | Subparts J and M | 11/14/2006
91 | § 91.147(b) | 09/11/2007
93 | Subpart B | 10/31/2008
121 | § 121.360 | 03/29/2005
135 | § 135.153 | 03/29/2005
183 | §§ 183.61(a)(1) and 183.63 | 11/14/2006

Under the Administrative Procedure Act, an agency doesn't have to issue a notice of proposed rulemaking when the agency for good cause finds that public notice and procedure are “impracticable, unnecessary, or contrary to the public interest.” See 5 U.S.C. 553(b). Because this technical amendment simply removes obsolete regulations and references, we find that publishing the changes for public notice and comment is unnecessary.

The Administrative Procedure Act also states that an agency must publish a substantive rule not less than 30 days before its effective date, except as otherwise provided by the agency for good cause. See 5 U.S.C. 553(d). We find that this technical amendment imposes no additional burden or requirement on the regulated industry, and is not substantive in nature. Moreover, we find that there is good cause to make the changes effective immediately upon publication in the Federal Register. It is in the public interest to remove these obsolete references from our regulations immediately.

This regulation is editorial in nature and imposes no additional burden on any person or organization. Therefore, we have determined the action: (1) Is not a significant rule under Executive Order 12866; and (2) is not a significant rule under Department of Transportation Regulatory Policy and Procedures. No impact is expected as a result of removing these regulations and a full regulatory evaluation is not required. In addition, the FAA certifies the rule will not have a significant economic impact, positive or negative, on a substantial number of small entities under the criteria of the Regulatory Flexibility Act.

List of Subjects

14 CFR Part 21

Aircraft, Aviation safety, Exports, Imports, Reporting and recordkeeping requirements.

14 CFR Part 61

Aircraft, Airmen, Alcohol abuse, Aviation safety, Drug abuse, Recreation and recreation areas, Reporting and recordkeeping requirements, Security measures, Teachers.

14 CFR Part 63

Aircraft, Airmen, Alcohol abuse, Aviation safety, Drug abuse, Navigation (air), Reporting and recordkeeping requirements, Security measures

14 CFR Part 77

Administrative practice and procedure, Airports, Airspace, Aviation safety, Navigation (air), Reporting and recordkeeping requirements.

14 CFR Part 91

Afghanistan, Agriculture, Air traffic control, Aircraft, Airmen, Airports, Aviation safety, Canada, Cuba, Ethiopia, Freight, Mexico, Noise control, Political candidates, Reporting and recordkeeping requirements, Yugoslavia.

14 CFR Part 93

Air traffic control, Airports, Navigation (air), Reporting and recordkeeping requirements

14 CFR Part 121

Air carriers, Aircraft, Airmen, Alcohol abuse, Aviation safety, Charter flights, Drug abuse, Drug testing, Reporting and recordkeeping requirements, Safety, Transportation.

14 CFR Part 135

Air taxis, Aircraft, Airmen, Alcohol abuse, Aviation safety, Drug abuse, Drug testing, Reporting and recordkeeping requirements.

14 CFR Part 142

Administrative practice and procedure, Airmen, Educational facilities, Reporting and recordkeeping requirements, Schools, Teachers.

14 CFR Part 145

Aircraft, Aviation safety, Reporting and recordkeeping requirements.

14 CFR Part 183

Aircraft, Airmen, Authority delegations (Government agencies), Health professions, Reporting and recordkeeping requirements.

The Amendments

In consideration of the foregoing, the Federal Aviation Administration amends parts 21, 61, 63, 77, 91, 93, 121, 135, 145, and 183 of Title 14, Code of Federal Regulations as follows:

PART 21—CERTIFICATION PROCEDURES FOR PRODUCTS AND PARTS

1. The authority citation for part 21 continues to read as follows:

Authority: 42 U.S.C. 7572; 49 U.S.C. 106(g), 40105, 40113, 44701-44702, 44704, 44707, 44709, 44711, 44713, 44715, 45303.

Subpart J—[Removed and Reserved]

2. Remove and reserve Subpart J, consisting of §§ 21.231 through 21.293.

Subpart M—[Removed and Reserved]

3. Remove and reserve Subpart M, consisting of §§ 21.431 through 21.493.

PART 61—CERTIFICATION: PILOTS, FLIGHT INSTRUCTORS, AND GROUND INSTRUCTORS

4. The authority citation for part 61 continues to read as follows:

Authority: 49 U.S.C. 106(g), 40113, 44701-44703, 44707, 44709-44711, 45102-45103, 45301-45302.

Special Federal Aviation Regulation No. 93 [Removed]

5. Remove SFAR No. 93.

PART 63—CERTIFICATION: FLIGHT CREWMEMBERS OTHER THAN PILOTS

6. The authority citation for part 63 continues to read as follows:

Authority: 49 U.S.C. 106(g), 40113, 44701-44703, 44707, 44709-44711, 45102-45103, 45301-45302.

Special Federal Aviation Regulations No. 93 [Removed]

7-9. Remove SFAR No. 93.

PART 91— GENERAL OPERATING AND FLIGHT RULES

10. The authority citation for part 91 continues to read as follows:

Authority: 49 U.S.C. 106(g), 1155, 40103, 40113, 40120, 44101, 44111, 44701, 44704, 44709, 44711, 44712, 44715, 44716, 44717, 44722, 46306, 46315, 46316, 46504, 46506-46507, 47122, 47508, 47528-47531, articles 12 and 29 of the Convention on International Civil Aviation (61 Stat. 1180).

§ 91.147 [Amended]

11. Amend § 91.147(b) by removing the words “by September 11, 2007”.

PART 93—SPECIAL AIR TRAFFIC RULES

12. The authority citation for part 93 continues to read as follows:

Authority: 42 U.S.C. 7572; 49 U.S.C. 106(g), 40105, 40113, 44701-44702, 44704, 44707, 44709, 44711, 44713, 44715, 45303.

Subpart B—[Removed and Reserved]

13. Remove and reserve Subpart B, consisting of §§ 93.21 through 93.33.

PART 121—OPERATING REQUIREMENTS: DOMESTIC, FLAG, AND SUPPLEMENTAL OPERATIONS

14. The authority citation for part 121 continues to read as follows:

Authority: 49 U.S.C. 106(g), 40113, 40119, 41706, 44101, 44701-44702, 44705, 44709-44711, 44713, 44716-44717, 44722, 46105.

Special Federal Aviation Regulation No. 14 [Removed]

15. Remove SFAR No. 14.

Special Federal Aviation Regulation No. 36 [Removed]

16. Remove SFAR No. 36.

Special Federal Aviation Regulation No. 80 [Removed]

17. Remove SFAR No. 80.

Special Federal Aviation Regulation No. 92-5 [Removed]

18. Remove SFAR No. 92-5.

Special Federal Aviation Regulation No. 93 [Removed]

19. Remove SFAR No. 93.

§ 121.360 [Removed and Reserved]

20. Remove and reserve § 121.360.

PART 135—OPERATING REQUIREMENTS: COMMUTER AND ON DEMAND OPERATIONS AND RULES GOVERNING PERSONS ON BOARD SUCH AIRCRAFT

21. The authority citation for part 135 continues to read as follows:

Authority: 49 U.S.C. 106(g), 41706, 40113, 44701-44702, 44705, 44709, 44711-44713, 44715-44717, 44722, 45101-45105.

Special Federal Aviation Regulation No. 36 [Removed]

22. Remove SFAR 36.

Special Federal Aviation Regulation No. 93 [Removed]

23. Remove SFAR 93.

§ 135.153 [Removed and Reserved]

24. Remove and reserve § 135.153.

PART 142—TRAINING CENTERS

25. The authority citation for part 142 continues to read as follows:

Authority: 49 U.S.C. 106(g), 40113, 40119, 44101, 44701-44703, 44705, 44707, 44709-44711, 45102-45703, 45301-45302.

Special Federal Aviation Regulation No. 93 [Removed]

26. Remove SFAR 93.

PART 145—REPAIR STATIONS

27. The authority citation for part 145 continues to read as follows:

Authority: 49 U.S.C. 106(g), 40113, 44701-44702, 44707, 44709, 44717,

Special Federal Aviation Regulation No. 35 [Removed]

28. Remove SFAR 36.

PART 183—REPRESENTATIVES OF THE ADMINISTRATOR

29. The authority citation for part 183 continues to read as follows:

Authority: 31 U.S.C. 9701; 49 U.S.C. 106(g), 40113, 44702, 45303

§ 183.61 [Amended]

30. Amend § 183.61 by removing and reserving paragraph (a)(1).

§ 183.63 [Amended]

31. Amend § 183.63 introductory text by removing the phrase “or under the delegation rules of subpart J or M of part 21, or SFAR 36 of this chapter,”.

Issued in Washington, DC on February 11, 2011.
Pamela Hamilton-Powell,
Director, Office of Rulemaking.

[FR Doc. 2011-3467 Filed 2-15-11; 8:45 am]

BILLING CODE 4910-13-P